DEPARTMENT OF ENERGY

Federal Energy Regulatory Commission

[Docket No. RP03-235-000]

Northern Natural Gas Company; Notice of Proposed Changes in FERC Gas Tariff

January 15, 2003.

Take notice that on January 13, 2003, Northern Natural Gas Company (Northern) tendered for filing to become part of Northern's FERC Gas Tariff, Fifth Revised Volume No. 1, the following tariff sheets proposed to be effective on February 13, 2003:

Tenth Revised Sheet No. 2

62 Revised Sheet No. 53

Sixth Revised Sheet No. 101

Third Revised Sheet No. 104

Fourth Revised Sheet No. 105

Third Revised Sheet No. 116

Second Revised Sheet No. 118

Fourth Revised Sheet No. 119

Second Revised Sheet No. 125C

First Revised Sheet No. 127

Sixth Revised Sheet No. 135

Sixth Revised Sheet No. 142

First Revised Sheet No. 161

Fourth Revised Sheet No. 200

Second Revised Sheet No. 442

Original Sheet No. 442A

Fourth Revised Sheet No. 446

Original Sheet No. 446A

Second Revised Sheet No. 447

Sheet No. 448

Sheet No. 461

Sheet No. 462 (deleted)

Second Revised Sheet No. 404

First Revised Sheet No. 405

Sheet No. 406

Sheet No. 412 (deleted)

Sheet No. 413 (deleted

Sheet No. 414 (deleted)

Sheet No. 415 (deleted)

Sheet No. 416 (deleted)

Sheet No. 424 (deleted)

Sheet No. 425 (deleted)

Fourth Revised Sheet No. 431

Original Sheet No. 431A

Fourth Revised Sheet No. 441

Original Sheet No. 441A

Second Revised Sheet No. 233

Fifth Revised Sheet No. 264

Third Revised Sheet No. 400

Original Sheet No. 400A

Fourth Revised Sheet No. 401

Second Revised Sheet No. 402

First Revised Sheet No. 403

Original Sheet No. 403A

Northern states that it is submitting the revised tariff sheets listed above to revise its generally applicable tariff provisions and its forms of service agreements to set forth provisions which could be agreed upon in transportation service agreements.

Northern further states that copies of the filing have been mailed to each of its customers and interested State Commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Comment Date: January 27, 2003.

Magalie R. Salas,
Secretary.

[FR Doc. 03-1736 Filed 1-24-03; 8:45 am]

BILLING CODE 6717-01-P